DEPARTMENT OF COMMERCE

Foreign-Trade Zones Board

[S-171-2016]

Approval of Subzone Status; TopShip, LLC, Gulfport, Mississippi

On December 1, 2016, the Executive Secretary of the Foreign-Trade Zones (FTZ) Board docketed an application submitted by the Mississippi Coast Foreign Trade Zone, Inc., grantee of FTZ 92, requesting subzone status subject to the existing activation limit of FTZ 92, on behalf of TopShip, LLC, in Gulfport, Mississippi.

The application was processed in accordance with the FTZ Act and Regulations, including notice in the Federal Register inviting public comment (81 FR 88213, December 7, 2016). The FTZ staff examiner reviewed the application and determined that it meets the criteria for approval.

Pursuant to the authority delegated to the FTZ Board's Executive Secretary (15 CFR 400.36(f)), the application to establish Subzone 92F is approved, subject to the FTZ Act and the Board's regulations, including Section 400.13, and further subject to FTZ 92's 2,000-acre activation limit.

Dated: February 28, 2017.
Andrew McGilvray,
Executive Secretary.

[FR Doc. 2017-04277 Filed 3-3-17; 8:45 am]

BILLING CODE 3510-DS-P